DEPARTMENT OF THE INTERIOR

Bureau of Land Management

[NV-910-07-1990-EX, 7-08808]

Notice of Availability of Draft Supplemental Environmental Impact Statement for Newmont Mining Corporation's South Operations Area Project Amendment, Nevada

AGENCY: Bureau of Land Management, Interior.

ACTION: Notice of Availability.

SUMMARY: In accordance with the National Environmental Policy Act (NEPA, 42 U.S.C. 4321, et seq.) the Bureau of Land Management (BLM) has prepared a Draft Supplemental Environmental Impact Statement (SEIS) for Newmont Mining Corporation's South Operations Area Project Amendment (SOAPA) in Eureka and Elko counties, Nevada, and by this notice is announcing the opening of the comment period.

DATES: To assure they will be considered, the BLM must receive written comments on the Draft SEIS within 60 days following the date the Environmental Protection Agency publishes their Notice of Availability in the Federal Register.

ADDRESSES: You may submit comments by the following methods: Fax: (775) 753-0255, Mail: Send to SOAPA Project Manager, BLM Elko Field Office, 3900 East Idaho Street, Elko, NV 89801.

FOR FURTHER INFORMATION CONTACT: Deb McFarlane, BLM Elko Field Office, 3900 East Idaho Street, Elko, NV 89801, (775) 753-0200.

SUPPLEMENTARY INFORMATION: The BLM signed a Record of Decision (ROD) for Newmont Mining Corporation SOAPA project located on the Carlin Trend in northeastern Nevada, on July 26, 2002. That ROD authorized Newmont to mine an additional 350 feet below what had been previously authorized, to expand 139 acres of surface occupation, to expand waste rock disposal facilities and heap leach facilities, to continue dewatering and ground water discharge to Maggie Creek, and to construct associated ancillary facilities. Four years of legal review resulted in a decision by the United States Court of Appeals for the Ninth Circuit holding that portions of the cumulative effects analysis were insufficient. In response, the BLM has updated the cumulative effects analysis for Newmont Mining Corporation's SOAPA project in Chapter 5 of the 2002 EIS, including, any new or proposed projects that could contribute to cumulative effects, and has issued a Draft SEIS. A copy of the Draft SEIS may be obtained from the Bureau of Land Management, Elko Field Office, 3900 Idaho Street, Elko, Nevada 89801. The Draft SEIS may also be found on the Elko Field Office Internet site: http://www.blm.gov/nv/st/en/fo/elko_field_office/blm_information/nepa.htm. Comments, including names and street addresses of respondents, will be available for public review at the above address during regular business hours 7:30 a.m. to 4:30 p.m., Monday through Friday, except holidays, and may be published as part of the Final SEIS.

Before including your address, phone number, e-mail address, or other personal identifying information in your comment, be advised that your entire comment—including your personal identifying information—may be made publicly available at any time. While you can ask us in your comment to withhold your personal identifying information from public review, we cannot guarantee that we will be able to do so.

Ron Wenker,
State Director, Nevada.

[FR Doc. 07-4339 Filed 8-31-07; 2:38 pm]

BILLING CODE 4310-HC-P